FARM CREDIT ADMINISTRATION

Sunshine Act; Farm Credit Administration Board; Special Meeting

AGENCY: Farm Credit Administration.

SUMMARY: Notice is hereby given, pursuant to the Government in the Sunshine Act (5 U.S.C. 552b(e)(3)), of the special meeting of the Farm Credit Administration Board (Board).

Date and Time: The special meeting of the Board will be held at the offices of the Farm Credit Administration in McLean, Virginia, on February 10, 2004, from 9 a.m. until such time as the Board concludes its business.

FOR FURTHER INFORMATION CONTACT: Jeanette C. Brinkley, Secretary to the Farm Credit Administration Board, (703) 883-4009, TTY (703) 883-4056.

ADDRESSES: Farm Credit Administration, 1501 Farm Credit Drive, McLean, Virginia 22102-5090.

SUPPLEMENTARY INFORMATION: Parts of this meeting of the Board will be open to the public (limited space available), and parts will be closed to the public. In order to increase the accessibility to Board meetings, persons requiring assistance should make arrangements in advance. The matters to be considered at the meeting are:

Open Session

A. Approval of Minutes

• January 8, 2004 (Open and Closed)

B. Reports

• Bovine Spongiform Encephalopathy (BSE) Update

• Preferred Stock Informational Memorandum

• Syndications—OGC Legal Opinion

C. New Business—Other

• Webcast of FCA Public Meetings

• EEO Director Position

• Consolidation of FCA Training Programs

• Distressed Loan Restructuring—Final Rule

• Privacy Act—Routine Uses

Closed Session*

Reports

• East Carolina Preferred Stock Issuance Request

* Session Closed—Exempt pursuant to 5 U.S.C. 552b(c)(4), (8) and (9).

Dated: February 4, 2004.
Jeanette C. Brinkley,
Secretary, Farm Credit Administration Board.

[FR Doc. 04-2800 Filed 2-5-04; 11:20 am]

BILLING CODE 6705-01-P